DEPARTMENT OF EDUCATION

Office of Indian Education; Professional Development; Notice Extending the Closing Date for Transmittal of Applications for New Discretionary Program Awards

Catalog of Federal Domestic Assistance (CFDA) Number: 84.299B

SUMMARY: On March 2, 2004, a notice was published in the Federal Register (69 FR 9813) that established a closing date of April 5 for transmittal of applications for new program awards for the fiscal year 2004 Professional Development program. The purpose of this notice is to extend the closing date for transmittal of applications for this program, due to unavoidable delays in the technical services contracting process for the panel review of the applications. The closing date for the transmittal of applications for this program is extended to May 3, 2004.

DATES: The new deadline date for the transmittal of applications is May 3, 2004.

FOR FURTHER INFORMATION CONTACT: Victoria Vasques, Office of Indian Education, 400 Maryland Avenue, SW., room 3W115, Washington, DC 20202-6335. Telephone: (202) 260-3774 or by e-mail: oiegrants@ed.gov.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The Official version of this document is the document published in the Federal Register. Free Internet access to the official edition of the Federal Register and the Code of Federal Regulations is available on GPO Access at: http://www.gpoacess.gov/nara/index.html.

Authority: 20 U.S.C. 7442.

Dated: April 5, 2004.
Victoria Vasques,
Deputy Under Secretary for Indian Education.

[FR Doc. 04-8068 Filed 4-8-04; 8:45 am]

BILLING CODE 4000-01-M